DEPARTMENT OF EDUCATION

(CFDA No.: 84.195B)

Bilingual Education: Training for All Teachers; Notice Inviting Applications for New Awards for Fiscal Year (FY) 2000

Note to Applicants: This notice is a complete application package. Together with the statute authorizing the program and the applicable regulations governing this program, including the Education Department General Administrative Regulations (EDGAR), this notice contains all of the information, application forms, and instructions needed to apply for a grant under this program.

Purpose of Program: This program provides grants to incorporate courses and curricula on appropriate and effective instructional and assessment methodologies, strategies and resources specific to limited English proficient students, into preservice and inservice professional development programs for teachers, pupil services personnel, administrators, and other educational personnel in order to prepare such individuals to provide effective services to limited English proficient students. The program focuses on the development of coursework and curricula for professional development programs for currently practicing teachers and other educational personnel who provide instruction or support to LEP students, but who do not expect to become bilingual education or English as a second language specialists. Funds under this program may be used to provide for the development of training programs in collaboration with other programs, such as programs authorized under Titles I and II of this Act and under the Head Start Act.

Eligible Applicants: One or more institutions of higher education (IHEs); one or more local educational agencies (LEAs); one or more State educational agencies (SEAs); or one or more nonprofit organizations (NPOs) which have entered into consortia arrangements with an IHE, LEA, or SEA.

Applications Available: January 18, 2000.

Deadline for Transmittal of Applications: March 8, 2000.

Deadline for Intergovernmental Review: May 9, 2000.

Available Funds: $8 million.

Estimated Range of Awards: $150,000-$250,000.

Estimated Average Size of Awards: $200,000.

Estimated Number of Awards: 40.

Note: The Department of Education is not bound by any estimates in this notice.

Project Period: Up to 36 Months.

Applicable Regulations

The Education Department General Administrative Regulations (EDGAR) in 34 CFR 74, 75, 77, 79, 80, 81, 82, 85, and 86.

Description of Program

The statutory authorization for this program, and the application requirements that apply to this competition, are set forth in sections 7142 and 7146-7150 of the Elementary and Secondary Education Act of 1965, as amended by the Improving America's Schools Act of 1994 (20 U.S.C. 7472 and 7476-7480), Pub. L. 103-382, enacted October 20, 1994.

Activities conducted under this program must assist educational personnel in meeting State and local certification requirements for bilingual education and, wherever possible, must lead to the awarding of college or university credit.

Priorities

Competitive Priority

The Secretary, under 34 CFR 75.105(c)(2)(i) and 34 CFR 299.3(b), gives preference to applications that meet the following competitive priority. The Secretary awards up to 3 points for an application that meets this competitive priority. These points are in addition to any points the application earns under the selection criteria for the program:

Projects that will contribute to systemic educational reform in an Empowerment Zone, including a Supplemental Empowerment Zone, or an Enterprise Community designated by the United States Department of Housing and Urban Development or the United States Department of Agriculture, and are made an integral part of the Zone's or Community's comprehensive community revitalization strategies.

Note: For a list of areas that have been designated as Empowerment Zones and Enterprise Communities go to: http://www.ezec.gov/ezec/mainmap.html and http://www.hud.gov/pressrel/ezec/urban.html.

Invitational Priority

The Secretary is particularly interested in applications that meet the following invitational priority. However, an application that meets this invitational priority receives no competitive or absolute preference over other applications (34 CFR 75.105(c)(1)).

Projects that incorporate training in family involvement into formal induction programs for beginning secondary teachers or ongoing professional development programs for currently practicing secondary teachers.

Selection Criteria:

The Secretary uses the following selection criteria in 34 CFR 75.210 to evaluate applications for new grants under this competition.

The maximum score for all of these criteria is 100 points.

The maximum score for each criterion is indicated in parentheses.

(a) Significance (10 points). (1) The Secretary considers the significance of the proposed project.

(2) In determining the significance of the proposed project the Secretary considers the likelihood that the proposed project will result in system change or improvement.

(Authority: 34 CFR 75.210 (b) (1) and (2)(v))

(b) Need for project (10 points). (1) The Secretary considers the need for the proposed project.

(2) In determining the need for the proposed project, the Secretary considers the following factors:

(i) The magnitude or severity of the problem to be addressed by the proposed project.

(ii) The extent to which specific gaps or weaknesses in services, infrastructure, or opportunities have been identified and will be addressed by the proposed project, including the nature and the magnitude of those gaps or weaknesses.

(Authority: 34 CFR 75.210 (a)(1) and (2)(i) and (v))

(c) Quality of the project design (45 points). (1) The Secretary considers the quality of the design of the proposed project.

(2) In determining the quality of the design of the proposed project, the Secretary considers the following factors:

(i) The extent to which the goals, objectives, and outcomes to be achieved by the proposed project are clearly specified and measurable.

(ii) The extent to which the design of the proposed project is appropriate to, and will successfully address, the needs of the target population or other identified needs.

(iii) The extent to which the proposed project is designed to build capacity and yield results that will extend beyond the period of Federal financial assistance.

(iv) The extent to which the design of the proposed project reflects up-to-date knowledge from research and effective practice.

(v) The extent to which the proposed project will be coordinated with similar or related efforts, and with other appropriate community, State, and Federal resources.

(vi) The extent to which the proposed project represents an exceptional approach for meeting the statutory purposes and requirements.

(Authority: 34 CFR 75.210(c)(1) and (2)(i), (ii), (xii), (xiii), (xiv), and xvi).

(d) Quality of project services (5 points). (1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(Authority: 34 CFR 75.210(d)(1) and(2).

(e) Quality of project personnel (5 points). (1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the qualifications, including relevant training and experience, of key project personnel.

(Authority: 34 CFR 75.210(e)(1),(2) and (3)(ii))

(f) Quality of the management plan. (5 points) (1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The adequacy of the procedures for ensuring feedback and continuous improvement in the operation of the proposed project.

(iii) How the applicant will ensure that a diversity of perspectives are brought to bear in the operation of the proposed project, including those of parents, teachers, the business community, a variety of disciplinary and professional fields, recipients or beneficiaries of services, or others, as appropriate.

(Authority: 34 CFR 75.210(g)(1) and (2)(i)(ii)(v)

(g) Quality of the project evaluation. (20 points) (1) The Secretary considers the quality of the evaluation to be conducted of the proposed project.

(2) In determining the quality of the evaluation, the Secretary considers the following factors:

(i) The extent to which the methods of evaluation provide for examining the effectiveness of project implementation strategies.

(ii) The extent to which the methods of evaluation include the use of objective performance measures that are clearly related to the intended outcomes of the project and will produce quantitative and qualitative data to the extent possible.

(iii) The extent to which the methods of evaluation will provide performance feedback and permit periodic assessment of progress toward achieving intended outcomes.

(Authority: 34 CFR 75.210(h)(1) and (2)(iii),(iv), and (vi)).

Intergovernmental Review of Federal Programs:

This program is subject to the requirements of Executive Order 12372 (Intergovernmental Review of Federal Programs) and the regulations in 34 CFR Part 79.

The objective of the Executive order is to foster an intergovernmental partnership and to strengthen federalism by relying on State and local processes for State and local government coordination and review of proposed Federal financial assistance.

Applicants must contact the appropriate State Single Point of Contact to find out about, and to comply with, the State's process under Executive order 12372.

Applicants proposing to perform activities in more than one State should immediately contact the Single Point of Contact for each of those States and follow the procedure established in each State under the Executive Order. If you want to know the name and address of any State Single Point of Contact, see the list published in the Federal Register on April 28, 1999 (64 FR 22963) or you may view the latest SPOC list on the OMB Web site at the following address: http://www.whitehouse.gov/omb/grants

In States that have not established a process or chosen a program for review, State, area-wide, regional, and local entities may submit comments directly to the Department.

Any State process recommendation and other comments submitted by a State Single Point of Contact and any comments from State, areawide, regional, and local entities must be mailed or hand-delivered by the date indicated in this notice to the following address: The Secretary, E.O. 12372—CFDA# 84.195B, U.S. Department of Education, Room 7E200, 400 Maryland Ave SW., Washington, D.C. 20202-0125.

Proof of mailing will be determined on the same basis as applications (see 34 CFR 75.102). Recommendations or comments may be hand-delivered until 4:30 p.m. (Eastern Standard Time) on the date indicated in this notice.

Please note that the above address is not the same address as the one to which the applicant submits its completed application. Do not send applications to the above address.

Instructions for Transmittal of Applications

(a) If an applicant wants to apply for a grant, the applicant must

(1) Mail the original and two copies of the application on or before the deadline date to: U.S. Department of Education, Application Control Center, Attention: (CFDA# 84.195B), Washington, D.C. 20202-4725 or

(2) Hand-deliver the original and two copies of the application by 4:30 p.m. (Eastern Standard Time) on or before the deadline date to: U.S. Department of Education, Application Control Center, Attention: (CFDA# 84.195B), Room #3633, Regional Office Building #3, 7th and D Streets, SW., Washington, D.C.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9495.

(3) The applicant must indicate on the envelope and—if not provided by the Department—in Item 10 of the Application for Federal Assistance (Standard Form 424) the CFDA number and suffix letter, if any, of the competition under which the application is being submitted.

Application Instructions and Forms

The appendix to this notice is divided into three parts, plus a statement regarding estimated public reporting burden, a notice to applicants regarding compliance with Section 427 of the General Education Provisions Act (GEPA), questions and answers on this program (located at the end of the notice) and various assurances, certifications, and required documentation. These parts and additional materials are organized in the same manner that the submitted application should be organized. The parts and additional materials are as follows:

Part I: Application for Federal Assistance (Standard Form 424) and instructions.

Part II: Budget Information—Non-Construction Programs (ED Form No. 524) and instructions.

Part III: Application Narrative.

Additional Materials

a. Estimated Public Reporting Burden.

b. Group Application Certification.

c. Project Documentation.

d. Program Assurances.

e. Assurances—Non-Construction Programs (Standard Form 424B) and Instructions.

f. Certifications Regarding: Lobbying; Debarment, Suspension, and Other Responsibility Matters; and Drug-Free Workplace Requirements (ED 80-0013) and Instructions.

g. Certification Regarding Debarment, Suspension, Ineligibility and Voluntary Exclusion—Lower Tier Covered Transactions (ED 80-0014) and Instructions. (Note: ED 80-0014 is intended for the use of grantees and should not be transmitted to the Department.)

h. Disclosure of Lobbying Activities (Standard Form LLL) (if applicable) and Instructions. This document has been marked to reflect statutory changes. See the notice published in the Federal Register (61 FR 1413) by the Office of Management and Budget on January 19, 1996.

i. Notice to All Applicants (GEPA Requirement) and Instructions (OMB No. 1801-0004). An applicant may submit information on a photostatic copy of the application and budget forms, the assurances, and the certifications. However, the application form, the assurances, and the certifications must each have an original signature. All applicants must submit one original signed application, including ink signatures on all forms and assurances, and two copies of the application. Please mark each application as original or copy. No grant may be awarded unless a completed application has been received.

FOR FURTHER INFORMATION CONTACT: Petraine_Johnson@ed.gov or Cynthia Ryan (202) 205-8842 at U.S. Department of Education, 400 Maryland Avenue, SW., Room 5090, Switzer Building, Washington, D.C. 20202-6510. Individuals who use a telecommunications device for the deaf (TDD) may call the Federal Information Relay Service (FIRS) at 1-800-877-8339 between 8 a.m. and 8 p.m., Eastern time, Monday through Friday.

Individuals with disabilities may obtain this notice in an alternate format (e.g., braille, large print, audiotape, or computer diskette) on request to the contact persons listed in the preceding paragraph. Please note, however, that the Department is not able to reproduce in an alternate format the standard forms included in the notice.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the preceding sites. If you have questions about using the PDF, call the U.S. Government Printing Office toll free at 1-888-293-6498 or in the Washington, DC area at (202) 512-1530.

Note: The official version of this document is the document published in the Federal Register. Free Internet access to the official edition of the Federal Register and the Code of Federal Regulations is available at GPO access at:

http://www.access.gpo.gov/nara/endex.html

Program Authority: 20 U.S.C. 7472.

Dated: January 7, 2000.
Art Love,
Acting Director, Office of Bilingual Education and Minority Languages Affairs.

Instructions for Estimated Public Reporting Burden

According to the Paperwork Reduction Act of 1995, no persons are required to respond to a collection of information unless it displays a valid OMB control number. The valid OMB control number for this information collection is OMB No. 1885-0545. (Expiration Date: 03/31/2002) The time required to complete this information collection is estimated to average 120 hours per response, including the time to review instructions, search existing data resources, gather the data needed, and complete and review the information collection. If you have any comments concerning the accuracy of the time estimate or suggestions for improving this form, please write to: U.S. Department of Education, Washington, D.C. 20202-4651. If you have any comments or concerns regarding the status of your individual submission of this form, write directly to: Office of Bilingual Education and Minority Languages Affairs, U.S. Department of Education, 400 Maryland Avenue, SW., Washington, D.C. 20202-6510.

Checklist for Applicants

Forms and Other Items for the Application

□ 1. Application for Federal Education Assistance (ED Form 424).

□ 2. Group Application Certification (if applicable).

□ 3. Budget Information (ED Form No. 524).

□ 4. Itemized budget for each project year.

□ 5. Participant Data.

□ 6. Project Documentation.

Section A—Copy of Transmittal Letter to SEA requesting SEA to comment on application

Section B—Documentation of Empowerment Zone or Enterprise Community (if applicable)

□ 7. Program Assurances.

□ 8. Assurances—Non-Construction Programs (SF 424B).

□ 9. Certifications Regarding Lobbying; Debarment Suspension and Other Responsibility Matters; and Drug-Free Workplace Requirements (ED 80-0013).

□ 10. Certification Regarding Debarment, Suspension, Ineligibility and Voluntary Exclusion—Lower Tier Covered Transactions (ED 80-0014) (if applicable).

□ 11. Disclosure of Lobbying Activities (SF-LLL).

□ 12. Notice to All Applicants (GEPA Requirement) (OMB No. 1801-0004).

□ 13. Table of Contents.

□ 14. One-page abstract (single-spaced).

□ 15. Application Narrative (not to exceed 30 pages double-spaced, see instructions below).

□ 16. One original and two copies of the application for transmittal to the Department's Application Control Center.

17. One copy of the application to the appropriate State Education Agency.

18. One copy of the application to the appropriate State Single Point of Contact (if applicable).

Mandatory Page Limits for the Application Narrative

The narrative is the section of the application where you address the selection criteria used by reviewers in evaluating the application. You must limit the narrative to the equivalent of no more than 30 pages, using the following standards:

(1) A page is 8.5″ x 11″, on one side only with 1″ margins at the top, bottom, and both sides.

(2) You must double space (no more than three lines per vertical inch) all text in the application narrative, including titles, headings, footnotes, quotations, references, and captions, as well as all text in charts, tables figures and graphs.

If you use a proportional computer font, you may not use a font smaller than a 12-point font. If you use a non-proportional font or a typewriter, you may not use more than 12 characters per inch.

The page limit does not apply to: The Application for Federal Assistance Form (ED 424); the Budget Information Form (ED 524) and attached itemization of costs; the other application forms and attachments to those forms; the assurances and certifications; or the one-page abstract and table of contents. The page limit applies only to item 14 in the Checklist for Applicants provided above.

If, in order to meet the page limit, you use print size, spacing, or margins smaller than the standard specified in this notice, your application will not be considered for funding.

Application Narrative and Abstract

The narrative should address fully all aspects of the selection criteria in the order listed and should give detailed information regarding each criterion. Do not simply paraphrase the criteria. Provide position descriptions for key personnel. Prepare a one-page single-spaced abstract which summarizes the purpose, design and expected outcomes of the proposed project.

Budget

Budget line items must support the goals and objectives of the proposed project and be directly applicable to the program design and all other project components. Prepare an itemized budget for each year of requested funding. Indirect costs for institutions of higher education which are the fiscal agents for Training for All Teachers Programs are limited to the lower of either 8% of a modified total direct cost base or the institution of higher education's actual indirect cost agreement. A modified direct cost base is defined as total direct costs less stipends, tuition and related fees and capital expenditures of $5,000 or more.

(Authority: 34 CFR 75.562)

Final Application Preparation

Use the above checklist to verify that all items are addressed. Prepare one original with an original signature, and include two additional copies. Do not use elaborate bindings or covers. The application package must be mailed to the Application Control Center (ACC) and postmarked by the deadline date.

Submission of Application to State Educational Agency

Section 7146(a)(4) of the Elementary and Secondary Education Act of 1965, as amended, requires all applicants except schools funded by the Bureau of Indian Affairs to submit a copy of their application to their State educational agency (SEA) for review and comment (20 U.S.C. 7476(a)(4)). Section 75.156 of EDGAR requires these applicants to submit their application to the SEA on or before the deadline date for submitting their application to the Department of Education. This section of EDGAR also requires applicants to attach to their application a copy of their letter that requests the SEA to comment on the application (34 CFR 75.156). A copy of this letter should be attached to the Project Documentation Form contained in this application package. Applicants are reminded that the requirement for submission to the SEA and the requirements for Executive Order 12372 referred to in the above notice inviting applications are two separate requirements.

Applicants that do not submit a copy of their application to their SEA will not be considered for funding.

Questions and Answers

May Training for All Teachers Programs Provide Training to Participants?

In addition to developing and revising courses and curricula for professional development programs for all teachers, applicants may implement training activities for currently practicing teachers and other educational personnel, including beginning teachers, who are not bilingual education or English as a second language specialists, but who provide services to LEP students. The program addresses the need for teachers and other educational personnel to acquire the knowledge and skills necessary to provide appropriate and effective services to limited English proficient students and their families.

What Factors Should Be Considered in Designing a Training for All Teachers Program?

Applicants should consider the characteristics and conditions that foster high-quality professional development, including sustained intensive training activities that are focused on a manageable number of participants. In determining the number of participants to be served, applicants should consider the capability of the program to provide high-quality professional development for all participants and to effectively evaluate improved teaching and learning as a result of the program. Applicants should not propose programs that are so large in scope that they dilute the quality of training.

What Are the Certification Requirements for the Training for All Teachers Program?

The Title VII statute requires grantees to assist educational personnel in meeting state and local certification requirements. Courses and curricula developed, revised or offered must be part of a program, which would lead to State and local certification. However, it is not a requirement that participants trained under the program complete certification requirements during the course of the grant. Emphasis should be placed on the acquisition of the knowledge and skills necessary to meet the needs of limited English proficient students.

What Information May Be Helpful in Preparing a Narrative for Training for All Teachers Grant?

In responding to the selection criteria applicants may wish to consider the following questions as a guide for preparing the application narrative:

• What are the specific responsibilities of schools, districts, institutions of higher education and other partnership organizations in planning, implementing and evaluating the proposed program?

• How will the training curricula incorporate high standards for teaching and learning?

• How is the proposed program linked to a comprehensive school-wide plan to improve professional development programs for all teachers related to the needs of limited English proficient students?

• How will the products of the proposed program be integrated into professional development program activities for all teachers?

• How will the program assist in systemically reforming local policies and practices related to the training of teachers to improve instructional services for LEP students.

• What performance indicators will the proposed program use to support the effectiveness of the program? What are the expected outcomes for participant learning, improved teaching practices, improved student achievement, reform of professional development in the school or university?

• What professional development activities are planned for school staff development specialists, or for higher education faculty to ensure that they are effectively prepared to provide training to prepare all teachers related to the needs of LEP students.

In addition, applicants may wish to consider the Department of Education Professional Development Principles in planning Training for All Teachers Program. The following are the Professional Development Principles:

Professional Development

• Focuses on teachers as central to student learning, yet includes all other members of the school community.

• Focuses on individual, collegial and organizational improvement.

• Respects and nurtures the intellectual and leadership capacity of teachers, principals, and others in the school community.

• Reflects best available research and practice in teaching, learning, and leadership.

• Enables teachers to develop further expertise in subject content, teaching strategies, uses of technologies, and other essential elements in teaching to high standards.

• Promotes continuous inquiry and improvement embedded in the daily life of schools.

• Is planned collaboratively by those who will participate in and facilitate that development.

• Requires substantial time and other resources.

• Is driven by a coherent long-term plan.

• Is evaluated ultimately on the basis of its impact on teacher effectiveness and student learning; and this assessment guides subsequent professional development efforts.

BILLING CODE 4000-01-U

BILLING CODE 4000-01-C

BILLING CODE 4000-01-C

Instructions for Completion of SF-LLL, Disclosure of Lobbying Activities

This disclosure form shall be completed by the reporting entity, whether subawardee or prime Federal recipient, at the initiation or receipt of a covered Federal action, or a material change to a previous filing, pursuant to title 31 U.S.C. section 1352. The filing of a form is required for each payment or agreement to make payment to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “Subawardee,” then enter the full name, address, city, State and zip code of the prime Federal recipient. Include Congressional District, if known.

6. Enter the name of the federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Request for Proposal (RFP) number; Invitations for Bid (IFB) number; grant announcement number; the contract, grant, or loan award number; the application/proposal control number assigned by the Federal agency). Included prefixes, e.g., “RFP-DE-90-001.”

9. For a covered Federal action where there has been an award or loan commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

(b) Enter the full names of the individual(s) performing services, and include full address if different from 10(a). Enter Last Name, First Name, and Middle Initial (MI).

11. The certifying official shall sign and date the form, print his/her name, title, and telephone number.

According to the Paperwork Reduction Act, as amended, no persons are required to respond to a collection of information unless it displays a valid OMB control Number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

Notice to All Applicants

The purpose of this enclosure is to inform you about a new provision in the Department of Education's General Education Provisions Act (GEPA) that applies to applicants for new grant awards under Department programs. This provision is Section 427 of GEPA, enacted as part of the Improving America's Schools Act of 1994 (Pub. L. 103-382).

To Whom Does This Provision Apply?

Section 427 of GEPA affects applicants for new grant awards under this program.

All applicants for new awards must include information in their applications to address this new provision in order to receive funding under this program. (If this program is a State-formula grant program, a State needs to provide this description only for projects or activities that it carries out with funds reserved for State-level uses. In addition, local school districts or other eligible applicants that apply to the State for funding need to provide this description in their applications to the State for funding. The State would be responsible for ensuring that the school district or other local entity has submitted a sufficient section 427 statement as described below.)

What Does This Provision Require?

Section 427 requires each applicant for funds (other than an individual person) to include in its application a description of the steps that applicant proposes to take to ensure equitable access to, and participation in, its Federally-assisted program for students, teachers, and other program beneficiaries with special needs. This provision allows applicants discretion in developing the required description. The statute highlights six types of barriers that can impede equitable access or participation: Gender, race, national origin, color, disability, or age. Based on local circumstances, you should determine whether these or other barriers may prevent your students, teachers, etc. from such access or participation in, the Federally-funded project or activity. The description in your application of steps to be taken to overcome these barriers need not be lengthy; you may provide a clear and succinct description of how you plan to address those barriers that are applicable to your circumstances. In addition, the information may be provided in a single narrative, or, if appropriate, may be discussed in connection with related topics in the application.

Section 427 is not intended to duplicate the requirements of civil rights statutes, but rather to ensure that, in designing their projects, applicants for Federal funds address equity concerns that may affect the ability of certain potential beneficiaries to fully participate in the project and to achieve to high standards. Consistent with program requirements and its approved application, an applicant may use the Federal funds awarded to it to eliminate barriers it identifies.

What Are Examples of How an Applicant Might Satisfy the Requirement of This Provision?

The following examples may help illustrate how an applicant may comply with Section 427.

• (1) An applicant that proposes to carry out an adult literacy project serving, among others, adults with limited English proficiency, might describe in its application how it intends to distribute a brochure about the proposed project to such potential participants in their native language.

• (2) An applicant that proposes to develop instructional materials for classroom use might describe how it will make the materials available on audio tape or in braille for students who are blind.

• (3) An applicant that proposes to carry out a model science program for secondary students and is concerned that girls, may be less likely than boys to enroll in the course, might indicate how it intends to conduct “outreach” efforts to girls, to encourage their enrollment.

We recognize that many applicants may already be implementing effective steps to ensure equity of access and participation in their grant programs, and we appreciate your cooperation in responding to the requirements of this provision.

Estimated Burden Statement for GEPA Requirements

The time required to complete this information collection is estimated to vary from 1 to 3 hours per response, with an average of 1.5 hours, including the time to review instructions, search existing data resources, gather and maintain the data needed, and complete and review the information collection. If you have any comments concerning the accuracy of the time estimate(s) or suggestions for improving this form, please write to: U.S. Department of Education, Washington, DC 20202-4651.

[FR Doc. 00-843 Filed 1-14-00; 8:45 am]

BILLING CODE 4000-01-U